DEPARTMENT OF DEFENSE

Office of the Secretary

Advisory Committee Meeting Cancellation

AGENCY: Missile Defense Agency (MDA), DoD.

ACTION: Notice.

SUMMARY: On Tuesday, January 4, 2011 (Volume 76, Number 2, Page 335) the Department of Defense announced meeting date changes to the closed meetings of the Missile Defense Advisory Committee. Due to administrative matters, these meetings scheduled for January 19-20, 2011, have been cancelled.

FOR FURTHER INFORMATION CONTACT: Mr. David Bagnati, Designated Federal Officer at MDAC@mda.mil, phone/voice mail 703-695-6438, or mail at 7100 Defense Pentagon, Washington, DC 20301-7100.

Dated: January 11, 2011.
Morgan F. Park,
Alternate OSD Federal Register Liaison Officer, Department of Defense.

[FR Doc. 2011-943 Filed 1-18-11; 8:45 am]

BILLING CODE 5001-06-P